DEPARTMENT OF ENERGY

Federal Energy Regulatory Commission

Combined Notice of Filings

Take notice that the Commission has received the following Natural Gas Pipeline Rate and Refund Report filings:

Filings Instituting Proceedings

Docket Number: PR17-20-002.

Applicants: Atmos Pipeline-Texas.

Description: Tariff filing per 284.123(b),(e)/: Atmos Pipeline-Texas Further Revisions to Statement of Operating Con—Clone to be effective 4/11/2017; Filing Type: 1000.

Filed Date: 4/11/17.

Accession Number: 201704115248.

Comments/Protests Due: 5 p.m. ET 5/2/17.

Docket Numbers: RP17-651-000.

Applicants: ARP Production Company, LLC, Tenaska Marketing Ventures.

Description: Joint Petition of ARP Production Company, LLC and Tenaska Marketing Ventures for Limited Waiver of Capacity Release Tariff Provision.

Filed Date: 04/12/2017.

Accession Number: 20170412-5195.

Comment Date: 5:00 p.m. Eastern Time on Monday, April 24, 2017.

Docket Numbers: RP17-652-000

Applicants: Natural Gas Pipeline Company of America.

Description: Natural Gas Pipeline Company of America LLC submits tariff filing per 154.204: Update Filing to be effective 5/12/2017.

Filed Date: 04/12/2017.

Accession Number: 20170412-5249.

Comment Date: 5:00 p.m. Eastern Time on Monday, April 24, 2017.

Docket Numbers: RP17-653-000.

Applicants: Kern River Gas Transmission Company.

Description: Kern River Gas Transmission Company submits tariff filing per 154.204: 2017 Clean-Up to be effective 5/13/2017.

Filed Date: 04/12/2017.

Accession Number: 20170412-5275.

Comment Date: 5:00 p.m. Eastern Time on Monday, April 24, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2017.
Kimberly D. Bose,
Secretary.

[FR Doc. 2017-08269 Filed 4-24-17; 8:45 am]

BILLING CODE 6717-01-P